DEPARTMENT OF HOMELAND SECURITY

Coast Guard

33 CFR Part 165

[Docket No. USCG-2016-0026]

RIN 1625-AA00

Safety Zone, Block Island Wind Farm; Rhode Island Sound, RI

AGENCY: Coast Guard, DHS.

ACTION: Proposed rule; reopening of comment period.

SUMMARY: The Coast Guard is extending the comment period for the proposed safety zone. In response to public requests, the Coast Guard is extending the comment period until April 17, 2016.

DATES: The comment period for the proposed rule published in the Federal Register on February 16, 2016 (81 FR 7718) is reopened. Comments must be received on or before April 17, 2016.

ADDRESSES: You may submit comments identified by docket number USCG-2016-0026 using the Federal e-Rulemaking Portal at http://www.regulations.gov. See the “Public Participation and Request for Comments” portion of the SUPPLEMENTARY INFORMATION section for further instructions on submitting comments.

FOR FURTHER INFORMATION CONTACT: If you have questions about this rule, call or email Mr. Edward G. LeBlanc, Chief of the Waterways Management Division at Coast Guard Sector Southeastern New England, telephone 401-435-2351, email Edward.G.LeBlanc@uscg.mil.

SUPPLEMENTARY INFORMATION: On February 16, 2016, the Coast Guard published the proposed rule “Safety Zone, Block Island Wind Farm” in the Federal Register (81 FR 7718). The Coast Guard proposes to establish a 500-yard safety zone around each of five locations where the Block Island Wind Farm (BIWF) wind turbine generator (WTG) towers, nacelles, blades and subsea cables will be installed in the navigable waters of the Rhode Island Sound, RI, from April 1 to October 31, 2016. These safety zones are intended to safeguard mariners from the hazards associated with construction of the BIWF. Vessels would be prohibited from entering into, transiting through, mooring, or anchoring within these safety zones while construction vessels and associated equipment are present at any of the BIWF WTG sites, unless authorized by the Captain of the Port (COTP), Southeastern New England or the COTP's designated representative.

The original deadline to submit comments was March 17, 2016. This action extends the deadline for 30 days. Written comments must now be received by April 17, 2016.

Dated: March 22, 2016.
J.T. Kondratowicz,
Captain, U.S. Coast Guard, Captain of the Port Southeastern New England.

[FR Doc. 2016-07659 Filed 4-1-16; 8:45 am]

BILLING CODE 9110-04-P